DEPARTMENT OF HOMELAND SECURITY

Coast Guard

33 CFR Part 100

[Docket No. USCG-2014-0715]

RIN 1625-AA08

Special Local Regulation; Mavericks Invitational Surf Competition, Half Moon Bay, CA

AGENCY: Coast Guard, DHS.

ACTION: Interim rule and request for comments.

SUMMARY: The Coast Guard is establishing a special local regulation in the navigable waters of Half Moon Bay, CA near Pillar Point in support of the Mavericks Invitational Surf Competition to be held one day between November 1 of each year and March 31 of the following year, from 6 a.m. until 6 p.m. This special local regulation will temporarily restrict vessel traffic in vicinity of Pillar Point and prohibit vessels not participating in the surfing event from entering the dedicated surfing area and a designated no-entry area. This regulation is necessary to provide for the safety of life on the navigable waters immediately prior to, during, and immediately after the surfing competition.

DATES: This rule is effective November 1, 2014.

Comment Date: Comments and related material must be received by the Coast Guard on or before November 14, 2014.

Requests for public meetings must be received by the Coast Guard on or before November 14, 2014.

ADDRESSES: You may submit comments identified by docket number USCG-2014-0715 using any one of the following methods:

(1) Federal eRulemaking Portal: http://www.regulations.gov.

(2) Fax: 202-493-2251.

(3) Mail: Docket Management Facility (M-30), U.S. Department of Transportation, West Building Ground Floor, Room W12-140, 1200 New Jersey Avenue SE., Washington, DC 20590-0001.

(4) Hand Delivery: Same as mail address above, between 9 a.m. and 5 p.m., Monday through Friday, except Federal holidays. The telephone number is 202-366-9329.

See the “Public Participation and Request for Comments” portion of the SUPPLEMENTARY INFORMATION section below for further instructions on submitting comments. To avoid duplication, please use only one of these three methods.

FOR FURTHER INFORMATION CONTACT: If you have questions on this rule, call or email Lieutenant Junior Grade Joshua Dykman, U.S. Coast Guard Sector San Francisco; telephone (415) 399-3585 or email at D11-PF-MarineEvents@uscg.mil. If you have questions on viewing or submitting material to the docket, call Program Manager, Docket Operations, telephone (202) 366-9826.

SUPPLEMENTARY INFORMATION:

Table of Acronyms

DHS Department of Homeland Security

FR Federal Register

NPRM Notice of Proposed Rulemaking

A. Public Participation and Request for Comments

We encourage you to participate in this rulemaking by submitting comments and related materials. All comments received will be posted without change to http://www.regulations.gov and will include any personal information you have provided.

1. Submitting Comments

If you submit a comment, please include the docket number for this rulemaking, indicate the specific section of this document to which each comment applies, and provide a reason for each suggestion or recommendation. You may submit your comments and material online at http://www.regulations.gov, or by fax, mail, or hand delivery, but please use only one of these means. If you submit a comment online, it will be considered received by the Coast Guard when you successfully transmit the comment. If you fax, hand deliver, or mail your comment, it will be considered as having been received by the Coast Guard when it is received at the Docket Management Facility. We recommend that you include your name and a mailing address, an email address, or a telephone number in the body of your document so that we can contact you if we have questions regarding your submission.

To submit your comment online, go to http://www.regulations.gov, type the docket number (USCG-2014-0715) in the “Search” box and click “Search.” Click on “Submit a Comment” on the line associated with this rulemaking.

If you submit your comments by mail or hand delivery, submit them in an unbound format, no larger than 8½ by 11 inches, suitable for copying and electronic filing. If you submit comments by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number (USCG-2014-0715) in the “SEARCH” box and click “SEARCH.” Click on Open Docket Folder on the line associated with this rulemaking. You may also visit the Docket Management Facility in Room W12-140 on the ground floor of the Department of Transportation West Building, 1200 New Jersey Avenue SE., Washington, DC 20590, between 9 a.m. and 5 p.m., Monday through Friday, except Federal holidays.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not plan to hold public meetings on this rule. However, you may submit a request for one on or before November 14, 2014 using one of the methods specified under ADDRESSES. Please explain why you believe a public meeting would be beneficial. If we determine that one would aid this rulemaking, we will hold one at a time and place announced by a later notice in the Federal Register.

B. Regulatory History and Information

The Mavericks Invitational Surf Competition has grown in popularity within the past several years. Due to the inherent dangers of the competition and the disruption to the normal uses of the waterways in the vicinity of Pillar Point, the Coast Guard issues a Marine Event Permit to the event sponsor. Following the collapse of the Cliffside viewing area in 2011, the Coast Guard became concerned that the loss of shore-side viewing would result in a larger than expected number of spectator vessels in the vicinity of the event and considered promulgating a Safety Zone which would prevent spectator vessels from encroaching on the competition area to preserve the safety of both the surfers and the spectators. Because it proved impossible to reliably predetermine the exact location of breaking surf, the Coast Guard did not establish a Safety Zone for subsequent events, but has continued to maintain a presence at the event to protect the competitors from encroaching spectator vessels and vice versa. This special local regulation formalizes the scheme employed during the 2013 and 2014 competitions, which proved to be an effective means of separating competitors from spectators. The two zones and associated regulations contained in this rule are intended to ensure the safety of competitors from spectator vessels, and to enhance safety of spectator vessels by creating a designated area in which the Coast Guard may direct the movement of such vessels. Because of the dangers posed by the surf conditions during the Mavericks Invitational Surf Competition, the special local regulation is necessary to provide for the safety of event participants, spectators, and other vessels transiting the event area. For the safety concerns noted, it is in the public interest to have these regulations in effect during the event.

The Coast Guard is enacting this special local regulation without publishing an NPRM. The Coast Guard finds good cause for publishing this interim rule without an NPRM because an NPRM, in this case, is unnecessary. Public interest in this regulation is low: This event involves a limited area, does not restrict navigation and is enforced for only one day within the regulated period. In addition, the Coast Guard has been working with the event sponsors, participants and spectators for two years and has received input from the involved parties on how to best manage this event over the years. Finally, by publishing this rule as an interim rule, the Coast Guard remains open to public comment on how to improve the regulation.

The effective date of this regulation is less than thirty days from the date of publication. The Coast Guard finds good cause for making this interim rule effective less than thirty days after publication because doing so is unnecessary. This event has been occurring for the previous two years and is known to the local community. In addition, the Coast Guard has been working with the event sponsors, participants and spectators for two years and has a good idea how to best manage this event. Finally, while the regulation will be in effect starting in November, the date of the event is most likely to be between January and March, so sufficient notice before the actual enforcement period would be available.

C. Basis and Purpose

Under 33 CFR 100.35, the Coast Guard District Commander has authority to promulgate certain special local regulations deemed necessary to ensure the safety of life on the navigable waters immediately before, during, and immediately after an approved regatta or marine parade. The Commander of Coast Guard District 11 has delegated to the Captain of the Port (COTP) San Francisco the responsibility of issuing such regulations.

The Mavericks Invitational Surf Competition is a one day “Big Wave” surfing competition between the top 24 big wave surfers. The competition only occurs when 15-20 foot waves are sustained for over 24 hours and are combined with mild easterly winds of no more than 5-10 knots. The rock and reef ridges that make up the sea floor of the Pillar Point area combined with optimal weather conditions create the large waves that Mavericks is known for. Due to the hazardous waters surrounding Pillar Point at the time of the surfing competition, the Coast Guard is establishing a special local regulation in vicinity of Pillar Point that restricts navigation in the area of the surf competition and in neighboring hazardous areas. This regulation is intended to ensure the safety of competitors by delineating a specific competition area, and to provide for the safety of spectators by imposing operating restrictions on those vessels.

D. Discussion of the Interim Rule

The Coast Guard is establishing a regulated area for the Mavericks Invitational Surf Competition. The Mavericks Invitational Surf Competition will take place on a day that presents favorable surf conditions between November 1 of each year and March 31 of the following year, from 6 a.m. until 6 p.m. The Mavericks Invitational can only occur when 15-20 foot waves are sustained for over 24 hours and are combined with mild easterly winds of no more than 5-10 knots. Unpredictable weather patterns and the event's narrow operating window limit the Coast Guard's ability to notify the public of the event. The Coast Guard will issue notice of the event as soon as practicable and no later than 24 hours prior via the Broadcast Notice to Mariners.

The Mavericks Invitational Surf Competition will occur in the navigable waters of Half Moon Bay, CA in vicinity of Pillar Point as depicted in National Oceanic and Atmospheric Administration (NOAA) Chart 18682. The Coast Guard will enforce a regulated area defined by an arc extending 1000 yards from Sail Rock (37°29′34″ N, 122°30′02″ W) excluding the waters within Pillar Point Harbor. All restrictions would apply only between 6 a.m. and 6 p.m. on the day of the actual competition.

The effect of this regulation will be to restrict navigation in the vicinity of Pillar Point during the Mavericks Invitational Surf Competition. During the enforcement period, the Coast Guard will direct the movement and access of all vessels within the regulated area. The regulated area will be divided into two zones. Zone 1 will be designated as the competition area, and the movement of vessels within Zone 2 will be controlled by PATCOM.

This regulation is needed to keep spectators and vessels a safe distance away from the event participants and the hazardous waters surrounding Pillar Point. Past competitions have demonstrated the importance of restricting access to the competition area to only vessels in direct support of the competitors. Failure to comply with the lawful directions of the Coast Guard could result in additional vessel movement restrictions, citation, or both.

E. Regulatory Analyses

We developed this rule after considering numerous statutes and executive orders related to rulemaking. Below we summarize our analyses based on these statutes and executive orders.

1. Regulatory Planning and Review

This rule is not a significant regulatory action under section 3(f) of Executive Order 12866, Regulatory Planning and Review, as supplemented by Executive Order 13563, Improving Regulation and Regulatory Review, and does not require an assessment of potential costs and benefits under section 6(a)(3) of that Executive Order 12866 or under section 1 of Executive Order 13563. The Office of Management and Budget has not reviewed it under those Orders.

We expect the economic impact of this rule does not rise to the level of necessitating a full Regulatory Evaluation. The regulated area and associated regulations are limited in duration, and are limited to a narrowly tailored geographic area. In addition, although this rule restricts access to the waters encompassed by the regulated area, the effect of this rule will not be significant because the local waterway users will be notified via public Broadcast Notice to Mariners to ensure the regulations will result in minimum impact. The entities most likely to be affected are small commercial vessels, and pleasure craft engaged in recreational activities.

2. Impact on Small Entities

The Regulatory Flexibility Act of 1980 (RFA), 5 U.S.C. 601-612, as amended, requires federal agencies to consider the potential impact of regulations on small entities during rulemaking.

The Coast Guard certifies under 5 U.S.C. 605(b) that this rule will not have a significant economic impact on a substantial number of small entities. This rule may affect owners and operators of commercial vessels, and pleasure craft engaged in recreational activities and sightseeing. This rule will not have a significant economic impact on a substantial number of small entities for several reasons: (i) This rule will encompass only a small portion of the waterway for a limited period of time, and (ii) the maritime public will be advised in advance of the enforcement of the regulated area via Broadcast Notice to Mariners.

3. Assistance for Small Entities

Under section 213(a) of the Small Business Regulatory Enforcement Fairness Act of 1996 (Public Law 104-121), we want to assist small entities in understanding this rule. If the rule would affect your small business, organization, or governmental jurisdiction and you have questions concerning its provisions or options for compliance, please contact the person listed in the FOR FURTHER INFORMATION CONTACT, above.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

4. Collection of Information

This rule calls for no new collection of information under the Paperwork Reduction Act of 1995 (44 U.S.C. 3501-3520).

5. Federalism

A rule has implications for federalism under Executive Order 13132, Federalism, if it has a substantial direct effect on State or local governments and would either preempt State law or impose a substantial direct cost of compliance on them. We have analyzed this rule under that Order and have determined that it does not have implications for federalism.

6. Protest Activities

The Coast Guard respects the First Amendment rights of protesters. Protesters are asked to contact the person listed in the FOR FURTHER INFORMATION CONTACT section to coordinate protest activities so that your message can be received without jeopardizing the safety or security of people, places or vessels.

7. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 (adjusted for inflation) or more in any one year. Though this rule will not result in such an expenditure, we do discuss the effects of this rule elsewhere in this preamble.

8. Taking of Private Property

This rule will not cause a taking of private property or otherwise have taking implications under Executive Order 12630, Governmental Actions and Interference with Constitutionally Protected Property Rights.

9. Civil Justice Reform

This rule meets applicable standards in sections 3(a) and 3(b)(2) of Executive Order 12988, Civil Justice Reform, to minimize litigation, eliminate ambiguity, and reduce burden.

10. Protection of Children

We have analyzed this rule under Executive Order 13045, Protection of Children from Environmental Health Risks and Safety Risks. This rule is not an economically significant rule and does not create an environmental risk to health or risk to safety that may disproportionately affect children.

11. Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

12. Energy Effects

This action is not a “significant energy action” under Executive Order 13211, Actions Concerning Regulations That Significantly Affect Energy Supply, Distribution, or Use.

13. Technical Standards

This rule does not use technical standards. Therefore, we did not consider the use of voluntary consensus standards.

14. Environment

We have analyzed this rule under Department of Homeland Security Management Directive 023-01 and Commandant Instruction M16475.lD, which guide the Coast Guard in complying with the National Environmental Policy Act of 1969 (NEPA) (42 U.S.C. 4321-4370f), and have determined that this action is one of a category of actions that do not individually or cumulatively have a significant effect on the human environment. This rule involves a regulated area of limited size and duration. This rule is categorically excluded from further review under paragraph 34(g) of Figure 2-1 of the Commandant Instruction. An environmental analysis checklist supporting this determination and a Categorical Exclusion Determination are available in the docket where indicated under ADDRESSES. We seek any comments or information that may lead to the discovery of a significant environmental impact from this rule.

List of Subjects in 33 CFR Part 100

Marine safety, Navigation (water), Reporting and recordkeeping requirements, and Waterways.

For the reasons discussed in the preamble, the Coast Guard amends 33 CFR part 100 as follows:

PART 100—SAFETY OF LIFE ON NAVIGABLE WATERS

1. The authority citation for part 100 continues to read as follows:

Authority: 33 U.S.C. 1233.

2. Add § 100.1106 to read as follows:

§ 100.1106 Special Local Regulation; Annual Mavericks Invitational Big Wave Surf Competition.

(a) Location. This special local regulation establishes a regulated area on the waters of Half Moon Bay, located in the vicinity of Pillar Point. Movement within marinas, pier spaces, and facilities within Pillar Point Harbor is not regulated by this section.

(b) Enforcement Period. The following regulations will be enforced between the hours of 6 a.m. and 6 p.m. on one day between November 1 of each year and March 31 of the following year. Annual notice of the specific enforcement dates and times of these regulations will be announced via Broadcast Notice to Mariners and published by the Coast Guard in a Boating Public Safety Notice at least 24 hours in advance of the competition. Annual notice of the specific enforcement dates and times will also be published in a Notice of Enforcement in the Federal Register each year.

(c) Definitions. (1) Patrol Commander. As used in this section, “Patrol Commander” or “PATCOM” means a Coast Guard Patrol Commander, including a Coast Guard coxswain, petty officer, or other officer, or a Federal, State, or local officer designated by the Captain of the Port San Francisco (COTP) pursuant to a Memorandum of Understanding with that agency, to assist in the enforcement of the special local regulation.

(2) Regulated Area. As used in this section “Regulated Area” means the area in which the Maverick's Invitational Surf Competition will take place. This area is bounded by an arc extending 1000 yards from Sail Rock (37°29′34″ N, 122°30′02″ W) excluding the waters within Pillar Point Harbor. All coordinates are North American Datum 1983. Within the Regulated Area, at least two zones will be established and marked by buoys on the day of the competition. Due to the dynamic and changing nature of the surf, the exact size and location of the zones will not be made public until the competition day. The zones will be prominently marked by at least 8 buoys, placed by the event sponsor in a pattern approved by PATCOM. In addition, the USCG will notify the public of the zone locations via broadcast notice to mariners on the day of the event.

(3) Zone 1. As used in this section, “Zone 1” means the competition area within the Regulated Area. Zone 1 will generally be located to the northwest of a line drawn between Sail Rock (37°29′34″ N, 122°30′02″ W) and Pillar Point Entrance Lighted Gong Buoy 1 (37°29′10.410″ N, 122°30′21.904″ W).

(4) Zone 2. As used in this section, “Zone 2” means the area within the Regulated Area where the Coast Guard may direct the movement of all vessels, including restricting vessels from this area. Due to weather and sea conditions, the Captain of the Port may deny access to Zone 2 and the remainder of the regulated area to all vessels other than competitors and support vessels on the day of the event. Zone 2 will generally be located to the southeast of a line drawn between Sail Rock (37°29′34″ N, 122°30′02″ W) and Pillar Point Entrance Lighted Gong Buoy 1 (37°29′10.410″ N, 122°30′21.904″ W).

(5) Competitor. As used in this section “competitor” means a surfer, enrolled in the Maverick's Invitational Surf Competition.

(6) Support Vessel. As used in this section “support vessel” means a vessel which is designated and conspicuously marked by the sponsor to provide direct support to the competitors.

(7) Spectator Vessel. As used in this section “spectator vessel” means any vessel or person which is not designated by the sponsor as a support vessel.

(d) Special Local Regulations. The following regulations apply between the hours of 6am and 6pm on the competition day.

(1) Regulated Area Restrictions:

(i) Only support vessels may be authorized by the Patrol Commander (PATCOM) to enter Zone 1 during the competition.

(ii) Entering the water in Zone 1 by any person other than the competitors is prohibited. Competitors shall enter the water in Zone 1 from authorized support vessels only.

(iii) Vessels within Zone 2 shall maneuver as directed by PATCOM. Given the changing nature of the surf in the vicinity of the competition, PATCOM may close Zone 2 to all vessels due to hazardous conditions.

(iv) Entering the water in Zone 2 by any person is prohibited.

(v) Rafting and anchoring of vessels are prohibited within the Regulated Area.

(vi) Only vessels authorized by PATCOM shall be permitted to tow other watercraft within the regulated area.

(vii) Spectator and support vessels in Zones 1 and 2 shall operate at speeds which will create minimum wake, in general, seven (7) miles per hour or less.

(viii) When hailed or signaled by PATCOM by a succession of sharp, short signals by whistle or horn, the hailed vessel must come to an immediate stop and comply with the lawful directions issued. Failure to comply with a lawful direction may result in additional operating restrictions, citation for failure to comply, or both.

(ix) During the events, vessel operators may contact the PATCOM on VHF-FM channel 16.

(2) [Reserved]

Dated: September 18, 2014.
Michael H. Day,
Captain, U.S. Coast Guard. Captain of the Port San Francisco, Acting.

[FR Doc. 2014-24428 Filed 10-14-14; 8:45 am]

BILLING CODE 4910-15-P